DEPARTMENT OF HEALTH AND HUMAN SERVICES

National Institutes of Health

Submission for OMB Review; Comment Request; National Network of Tobacco Cessation Quitlines Evaluation

Summary: Under the provisions of Section 3507(a)(1)(D) of the Paperwork Reduction Act of 1995, the National Cancer Institute, the National Institutes of Health has submitted to the Office of Management and Budget (OMB) a request to review and approve the information collection listed below. This proposed information collection was previously published in the Federal Register on January 27, 2006 (page 4595) and allowed 60 days for public comment. No public comments were received. The purpose of this notice is to allow an additional 30 days for public comment. The National Institutes of Health may not conduct or sponsor, and the respondent is not required to respond to, an information collection that has been extended, revised, or implemented on or after October 1, 1995, unless it displays a currently valid OMB control number.

Proposed Collection

Title: Evaluation of the HHS National Network of Tobacco Cessation Quitlines Initiative.

Type of Information Collection Request: New.

Need and Use of Information Collection: In February 2004, the U.S. Department of Health and Human Services announced plans for a national network of tobacco cessation quitlines to provide all smokers in the United States access to the support and latest information to help them quit. To provide the highest level of assistance to smokers across the country who wants to quit, NCI established a new toll-free telephone number (1-800-QUIT-NOW) on November 8, 2004. The aim of the National Network of Tobacco Cessation Quitlines (NNTCQ) initiative (the Initiative) is to strengthen service delivery; provide a mechanism for integration and implementation of state, regional, and national campaigns; and increase healthcare utilization by minority and medically underserved populations. NCI, CDC, and other state, private industry, and partner organizations (the North American Quitline Consortium) have created the infrastructure and a coordinated mechanism to offer cessation services to the American public. The Initiative seeks to enhance existing state-managed quitlines and to encourage the establishment of quitlines in states without them. It is expected that successful implementation of the Initiative will foster partnerships across state quitlines for technology transfer, sharing of effective practices, and understanding patterns of use and reach to special populations, thereby ensuring a sustained level of effectiveness over time. The goal of this evaluation is to monitor the implementation of the Initiative, assess its impact on key stakeholders, and examine its implications for public health. To that end, this study will conduct a series of in-depth key informant telephone interviews and selected site visits with state tobacco control officers, quitline administrators and counseling staff. Representatives of organizations and individuals that partner with quitlines, such as community health organizations or health care providers, will also be interviewed. The findings will provide valuable information concerning the development and implementation of the NNTQC initiative as a potential model for Federal-State partnerships, the impact on building and enhancing state quitline capacity, and implications for the state tobacco control community.

The annual reporting burden is presented in exhibit 1, below.

Frequency of Response: One occasion.

Affected Public: State agencies, businesses or other for-profit, non-profit associations.

Type of Respondents: Federal and state employees, health services providers, administrators and researchers.

The annual reporting burden is as follows:

Estimated Number of Respondents: 228.

Estimated Number of Responses per Respondent: 1.

Average Burden Hours per Response: .7445.

Estimated Total Annual Burden Hours Requested: 169.75.

The annualized cost to respondents is $7,129.50.

There are no Capital Costs to report. There are no Operating or Maintenance Costs to report.

Exhibit 1.
Type of respondents | Estimated number of respondents | Estimated number of responses per respondent | Average burden hours per response | Estimated total annual burden hours requested
State Tobacco Control Manager | 51 | 1 | 1.00 | 51.00
State Quitline Administrator | 51 | 1 | 1.00 | 51.00
State Quitline Service Provider | 19 | 1 | .75 | 14.25
State Quitline Partner | 102 | 1 | .50 | 51.00
NAQC Representative | 5 | 1 | .50 | 2.50
Total | 228 |  |  | 169.75

Request for Comments: Written comments and/or suggestions from the public and affected agencies are invited on one or more of the following points: (1) Whether the proposed collection of information is necessary for the proper performance of the function of the agency, including whether the information will have practical utility; (2) the accuracy of the agency's estimate of the burden of the proposed collection of information, including the validity of the methodology and assumptions used; (3) ways to enhance the quality, utility, and clarity of the information to be collected; and (4) ways to minimize the burden of the collection of information on those who are to respond, including the use of appropriate automated, electronic, mechanical, or other technological collection techniques or other forms of information technology.

Direct Comments to OMB: Written comments and/or suggestions regarding the item(s) contained in this notice, especially regarding the estimated public burden and associated response time, should be directed to the: Office of Management and Budget, Office of Regulatory Affairs, New Executive Office Building, Room 10235, Washington, DC 20503, Attention: Desk Officer for NIH. To request more information on the proposed project or to obtain a copy of the data collection plans and instruments, contact Candace Deaton, M.P.A., Project Officer, National Cancer Institute, Cancer Information Service, 6116 Executive Blvd., Suite 3056A, Room 3028, Rockville, MD 20892 or call non-toll-free number 301-594-9072 or e-mail your request, including your address to: deatonc@mail.nih.gov.

Comments Due Date: Comments regarding this information collection are best assured of having their full effect if received within 30-days of the date of this publication.

Dated: August 21, 2006.
Rachelle Ragland Greene,
NCI Project Clearance Liaison, National Institutes of Health.

[FR Doc. E6-14354 Filed 8-29-06; 8:45 am]

BILLING CODE 4101-01-P